INTERNATIONAL TRADE COMMISSION

[Investigation No. 731-TA-451 (Second Review)]

Gray Portland Cement and Cement Clinker From Mexico

AGENCY: United States International Trade Commission.

ACTION: Termination of review.

SUMMARY: On April 6, 2009, the U.S. Department of Commerce published notice of the revocation of its antidumping duty order on gray portland cement and cement clinker from Mexico and termination of the sunset review of the order (74 FR 15435). Accordingly, the Commission gives notice that its antidumping duty review concerning gray portland cement and cement clinker from Mexico (Investigation No. 731-TA-451 (Second Review)) is terminated.

DATES: Effective Date: April 1, 2009.

FOR FURTHER INFORMATION CONTACT: Jim McClure (202-205-3191 or via e-mail james.mcclure@usitc.gov), Office of Investigations, U.S. International Trade Commission, 500 E Street, SW., Washington, DC 20436. Hearing-impaired individuals are advised that information on this matter can be obtained by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

Authority: This investigation is being terminated under authority of title VII of the Tariff Act of 1930; this notice is published pursuant to section 207.40 of the Commission's rules (19 CFR 207.40).

By order of the Commission.
Issued: May 20, 2009.
Marilyn R. Abbott,
Secretary to the Commission.

[FR Doc. E9-12261 Filed 5-26-09; 8:45 am]

BILLING CODE 7020-02-P